INTERNATIONAL TRADE COMMISSION

[Investigation No. 337-TA-958]

Certain Automated Teller Machines and Point of Sale Devices and Components Thereof; Termination of an Investigation on the Basis of Withdrawal of the Complaint

AGENCY: U.S. International Trade Commission.

ACTION: Notice.

SUMMARY: Notice is hereby given that the U.S. International Trade Commission has determined not to review the presiding administrative law judge's (“ALJ”) initial determination (“ID”) (Order No. 19), which granted a motion to terminate the investigation in its entirety based upon withdrawal of the complaint. The investigation is terminated.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission TDD terminal on (202) 205-1810.

SUPPLEMENTARY INFORMATION: The Commission instituted this investigation on June 9, 2015, based on a complaint filed by Global Cash Access, Inc. of Las Vegas, Nevada, alleging a violation of section 337 by virtue of the infringement of claims 1-3, 5-7 and 9 of U.S. Patent No. 6,081,792 (“the '792 patent”) and by virtue of false advertising. 80 FR 32,605. The notice of investigation named as respondents NRT Technology Corp. of Toronto, Ontario; and NRT Technologies, Inc. of Las Vegas, Nevada (collectively, “NRT”). On October 9, 2015, the Commission determined not to review an initial determination (Order No. 9) granting the complainant's motion to amend the complaint to change the complainant's name to Everi Payments Inc. (“Everi”), in view of a corporate name change. On May 16, 2016, the Commission determined to review, and on review affirm, an initial determination (Order No. 17) finding the asserted claims of the '792 patent invalid as indefinite pursuant to 35 U.S.C. 112.

On June 1, 2016, Everi filed an unopposed motion to terminate the investigation in its entirety by withdrawal of the complaint. See 19 CFR 210.21(a)(1). On June 2, 2016, the ALJ granted the motion as the subject initial determination (“ID”) (Order No. 19). The ALJ found that Everi's motion complied with Commission rules. Order No. 19 at 1-2.

No petitions for review were filed. The Commission has determined not to review the ID. The investigation is terminated.

The authority for the Commission's determination is contained in section 337 of the Tariff Act of 1930, as amended (19 U.S.C. 1337), and in Part 210 of the Commission's Rules of Practice and Procedure (19 CFR part 210).

By order of the Commission.
Issued: June 29, 2016.
Lisa R. Barton,
Secretary to the Commission.

[FR Doc. 2016-15803 Filed 7-1-16; 8:45 am]

BILLING CODE 7020-02-P